DEPARTMENT OF TRANSPORTATION

Office of the Secretary

Notice of Applications for Certificates of Public Convenience and Necessity and Foreign Air Carrier Permits Filed Under Subpart B (formerly Subpart Q) During the Week Ending January 11, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0016.

Date Filed: January 11, 2008.

Due Date for Answers, Conforming Applications, or Motion to Modify Scope: February 1, 2008.

Description: Application of ReadyJetGo Airlines, Inc., requesting a certificate of public convenience and necessity authorizing it to engage in interstate charter air transportation of persons, property and mail.

Docket Number: DOT-OST-2008-0018.

Date Filed: January 11, 2008.

Due Date for Answers, Conforming Applications, or Motion to Modify Scope: February 1, 2008.

Description: Application of ReadyJetGo Airlines, Inc., requesting a certificate of public convenience and necessity authorizing it to engage in worldwide foreign charter air transportation of persons, property and mail.

Docket Number: DOT-OST-2008-0008.

Date Filed: January 8, 2008.

Due Date for Answers, Conforming Applications, or Motion to Modify Scope: January 29, 2008.

Description: Application of Tag Aviation (UK) Ltd. (“TAG UK”), requesting a foreign air carrier permit to enable it to engage in: (i) Foreign charter air transportation of persons and property from any point or points behind any Member State of the European Union via any point or points in any Member State and via intermediate points to any point or points in the United States and beyond; (ii) foreign charter air transportation of persons and property between any point or points in the United States and any point or points in any member of the European Common Aviation Area; (iii) other charters, and (iv) transportation authorized by any additional route rights made available to European Community carriers in the future. TAG UK further requests an amendment to its existing exemption to enable it to provide the service described above pending issuance of a foreign air carrier permit.

Docket Number: DOT-OST-2008-0009.

Date Filed: January 8, 2008.

Due Date for Answers, Conforming Applications, or Motion to Modify Scope: January 29, 2008.

Description: Application of Air Tahiti Nui Airlines, requesting an amended foreign air carrier permit and exemption to conduct: (i) Foreign scheduled and charter air transportation of persons, property and mail from any point or points behind any Member State(s) of the European Union, via any point or points in any Member State(s) and via intermediate points to any point or points in the United States and beyond; (ii) foreign scheduled and charter air transportation of persons, property and mail between any point or points in the United States and any point or points in any member of the European Common Aviation Area; (iii) foreign scheduled and charter cargo air transportation between any point or points in the United States and any other point or points; (iv) other charters; and (v) transportation authorized by any additional route rights made available to European Community carrier in the future. Air Tahiti Nui further requests a corresponding exemption to enable it to provide the services described above pending issuance of an amended foreign air carrier permit.

Docket Number: DOT-OST-2008-0012.

Date Filed: January 8, 2008.

Due Date for Answers, Conforming Applications, or Motion to Modify Scope: January 29, 2008.

Description: Application of Global Jet Austria GmbH (“GJA”), requesting an amended foreign air carrier permit to enable it to engage in: (i) Foreign charter air transportation of persons and property from any point or points behind any Member State of the European Union via any point or points in any Member State and via intermediate points to any point or points in the United States and beyond; (ii) foreign charter air transportation of persons and property between any point or points in the United States and any point or points in any member of the European Common Aviation Area; (iii) other charters; and (iv) transportation authorized by any additional route rights made available to European Community carriers in the future. GJA further requests exemption authority to enable it to provide the service described above pending issuance of an amended foreign air carrier permit.

Docket Number: DOT-OST-2008-0006.

Date Filed: January 7, 2008.

Due Date for Answers, Conforming Applications, or Motion to Modify Scope: January 28, 2008.

Description: Application of Air Berlin PLC & Co. Luftverkehrs KG., requesting a foreign air carrier permit and an interim exemption to provide: (i) Foreign scheduled and charter air transportation of persons, property and mail from any point or points behind any Member State of the European Union via any point or points in any Member State and via intermediate points to any point or points in the United States and beyond; (ii) foreign scheduled and charter air services between any point or points in the United States and any point or points in any member of the European Common Aviation Area; (iii) foreign scheduled and charter cargo air transportation between any point or points in the United States and any other point or points; (iv) other charters; and (v) transportation authorized by any additional route rights made available to European community carriers in the future.

Renee V. Wright,
Program Manager, Docket Operations, Federal Register Liaison.

[FR Doc. E8-9829 Filed 5-2-08; 8:45 am]

BILLING CODE 4910-9X-P